DEPARTMENT OF COMMERCE

National Oceanic and Atmospheric Administration

[RTID 0648-XE782]

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory bodies will meet April 9-15, 2025 in San Jose, CA and via webinar. The Pacific Council meeting will be live streamed with the opportunity to provide public comment remotely. The following groups will meet in person in San Jose: Budget Committee, Habitat Committee, Salmon Technical Team, Salmon Advisory Subpanel, Enforcement Consultants, Coastal Pelagic Species Advisory Subpanel, and Coastal Pelagic Species Management Team. The Scientific and Statistical Committee will meet online Wednesday, April 9 and 10, 2025.

DATES: The Pacific Council meeting will begin on Friday, April 11, 2025, at 9 a.m. Pacific Time (PT), reconvening at 8 a.m. on Saturday, April 12 through Tuesday, April 15, 2025. All meetings are open to the public, except for a Closed Session held from 8 a.m. to 9 a.m., Friday, April 11, 2025 to address litigation and personnel matters. The Pacific Council will meet as late as necessary each day to complete its scheduled business.

ADDRESSES: Meetings of the Pacific Council and its advisory entities will be held at the DoubleTree by Hilton Hotel San Jose, 2050 Gateway Place, San Jose, CA; telephone: (408) 453-4000. Specific meeting information, including directions on joining the meeting, connecting to the live stream broadcast, and system requirements will be provided in the meeting announcement on the Pacific Council's website (see www.pcouncil.org). You may send an email to Mr. Kris Kleinschmidt (kris.kleinschmidt@pcouncil.org) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2418 or (866) 806-7204 toll-free, or access the Pacific Council website, www.pcouncil.org, for the proposed agenda and meeting briefing materials.

SUPPLEMENTARY INFORMATION: The April 11-15, 2025 meeting of the Pacific Council will be streamed live on the internet. The broadcasts begin initially at 9 a.m. PT Friday, April 11, and 8 a.m. Saturday, April 12 through Tuesday, April 15, 2025. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Pacific Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.3, Proposed Council Meeting Agenda, and will be in the advance April 2025 briefing materials and posted on the Pacific Council website at www.pcouncil.org no later than Friday, March 28, 2025.

A. Call to Order

1. Opening Remarks

2. Roll Call

3. Agenda

4. Executive Director's Report

B. Open Comment Period

1. Comments on Non-Agenda Items

C. Cross Fishery Management Plan

1. Office of National Marine Sanctuaries (ONMS) Report

2. Research and Data Needs

3. Socioeconomic Framework Workplan and Update

4. Adaptive Management Workplan and Update

5. Council Operations and Priorities

D. Salmon Management

1. National Marine Fisheries Service Report

2. Tentative Adoption of the 2025 Management Measures for Analysis

3. Clarify Council Direction on 2025 Management Measures

4. Methodology Review Preliminary Topic Selection

5. Review of Essential Fish Habitat—Scoping

6. Further Direction on 2025 Management

7. Further Direction on 2025 Management

8. Final Action on 2025 Management Measures

E. Habitat Issues

1. Current Habitat Issues

F. Pacific Halibut Management

1. Incidental Catch Limits for the 2025 Salmon Troll Fishery—Final Action

G. Coastal Pelagic Species Management

1. National Marine Fisheries Service Report

2. Exempted Fishing Permits (EFP) for 2025-26—Final Action

3. Pacific Sardine Assessment, Harvest Specifications, and Management Measures for 2025-26—Final Action

4. Pacific Mackerel Specifications and Management Measures for 2025-27—Final Action

5. Science and Management Priorities

H. Administrative Matters

1. Membership Appointments and Council Operating Procedures

2. Fiscal Matters

3. Future Council Meeting Agenda and Workload Planning

Advisory Body Agendas

Advisory body agendas will include discussions of relevant issues that are on the Pacific Council agenda for this meeting and may also include issues that may be relevant to future Pacific Council meetings. Proposed advisory body agendas for this meeting will be available on the Pacific Council website, www.pcouncil.org, no later than the end of the day Friday, March 28, 2025.

Schedule of Ancillary Meetings

Day 1—Wednesday, April 9, 2025

Scientific and Statistical Committee: Online

Day 2—Thursday, April 10, 2025

Scientific and Statistical Committee: Online

Habitat Committee: 8 a.m.

Salmon Advisory Subpanel: 8 a.m.

Salmon Technical Team: 8 a.m.

Budget Committee: 2 p.m.

Enforcement Consultants: 2 p.m.

Day 3—Friday, April 11, 2025

Habitat Committee: 8 a.m.

Salmon Advisory Subpanel: 8 a.m.

Salmon Technical Team: 8 a.m.

Coastal Pelagic Species Advisory Subpanel: 8 a.m.

Coastal Pelagic Species Management Team: 8 a.m.

Enforcement Consultants: As Necessary

Day 4—Saturday, April 12, 2025

Salmon Advisory Subpanel: 8 a.m.

Salmon Technical Team: 8 a.m.

Coastal Pelagic Species Advisory Subpanel: 8 a.m.

Coastal Pelagic Species Management Team: 8 a.m.

Enforcement Consultants: As Necessary

Day 5—Sunday, April 13, 2025

Salmon Advisory Subpanel: 8 a.m.

Salmon Technical Team: 8 a.m.

Coastal Pelagic Species Advisory Subpanel: 8 a.m.

Coastal Pelagic Species Management Team: 8 a.m.

Enforcement Consultants: Online

Day 6—Monday, April 14, 2025

Salmon Advisory Subpanel: 8 a.m.

Salmon Technical Team: 8 a.m.

Enforcement Consultants: Online

Day 7—Tuesday, April 15, 2025

Salmon Technical Team: 8 a.m.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@pcouncil.org; (503) 820-2412) at least 10 business days prior to the meeting date.

Authority: 16 U.S.C. 1801 et seq.

Dated: March 13, 2025.
Rey Israel Marquez,
Acting Deputy Director, Office of Sustainable Fisheries, National Marine Fisheries Service.

[FR Doc. 2025-04492 Filed 3-18-25; 8:45 am]

BILLING CODE 3510-22-P